ENVIRONMENTAL PROTECTION AGENCY

[EPA-HQ-OPPT-2021-0245; FRL-10023-20]

Agency Information Collection Activities; Proposed Renewal and Consolidation of Currently Approved Collections; EPA's Safer Choice Program Product and Partner Recognition Activities; Comment Request

AGENCY: Environmental Protection Agency (EPA).

ACTION: Notice.

SUMMARY: In compliance with the Paperwork Reduction Act (PRA), this document announces that EPA is planning to submit a request to renew and consolidate existing approved Information Collection Requests (ICRs) to the Office of Management and Budget (OMB). Before submitting the consolidated ICR to OMB for review and approval, EPA is soliciting comments on specific aspects of the proposed information collection that is summarized in this document. The consolidated ICR is entitled: “Safer Choice Program Product and Partner Recognition Activities” identified by EPA ICR No. 2692.01 and OMB Control No. 2070-[new]. The ICR and accompanying material are available in the docket for public review and comment.

DATES: Comments must be received on or before August 27, 2021.

ADDRESSES: Submit your comments, identified by docket identification (ID) number EPA-HQ-OPPT-2021-0245, online using the Federal eRulemaking Portal at http://www.regulations.gov. Follow the online instructions for submitting comments. Do not submit electronically any information you consider to be Confidential Business Information (CBI) or other information whose disclosure is restricted by statute. Additional instructions on commenting or visiting the docket, along with more information about dockets generally, is available at http://www.epa.gov/dockets.

Due to the public health concerns related to COVID-19, the EPA Docket Center (EPA/DC) and Reading Room is closed to visitors with limited exceptions. The staff continues to provide remote customer service via email, phone, and webform. For the latest status information on EPA/DC and docket access, visit https://www.epa.gov/dockets.

FOR FURTHER INFORMATION CONTACT:

For technical information contact: Linda Rutsch, Data Gathering and Analysis Division, 7406M, Office of Pollution Prevention and Toxics, Environmental Protection Agency, 1200 Pennsylvania Ave. NW, Washington, DC 20460-0001; telephone number: (202) 343-9924; email address: rutsch.linda@epa.gov.

For general information contact: The TSCA-Hotline, ABVI-Goodwill, 422 South Clinton Ave., Rochester, NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR in the subject line on the first page of your response. You may also provide the ICR title and related EPA and OMB numbers.

III. What do I need to know about the PRA?

An Agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. What ICR does this request apply to?

Title: EPA's Safer Choice Product and Partner Recognition Activities.

ICR number: EPA ICR No. 2692.01.

OMB control number: OMB Control No. 2070-[new].

ICR status: This ICR reflects the consolidation of the following currently approved ICRs: “Safer Choice Product Recognition Program” (EPA ICR No. 2302.03, OMB Control No. 2070-0178) and “Safer Choice Label Consultations” (EPA ICR No. 2487.02, OMB Control No. 2070-0189. The “Safer Choice Product Recognition Program” (EPA ICR No. 2302.03, OMB Control No. 2070-0178); is scheduled to expire on May 31, 2022 and the “Safer Choice Label Consultations” (EPA ICR No. 2487.02, OMB Control No. 2070-0189) is scheduled to expire on November 31, 2022.

Abstract: This ICR will cover the information collection activities associated with the reporting and recordkeeping requirements for individuals, businesses, organizations, and government entities participating in or collaborating with EPA's Safer Choice program. These components are designed to: Improve data efficiency by electronic data collection via a cloud-based Salesforce system called the Safer Choice Community; monitor the public's awareness of the Safer Choice program and label; and, clarify the Safer Choice Partner of the Year Awards application process and form.

Burden statement: The annual public reporting and recordkeeping burden for this collection of information is estimated to average .33 to 16 hours per response. The consolidated ICR, a copy of which is available in the docket, provides a detailed explanation of this estimate, which is only briefly summarized here:

Respondents/Affected entities: Entities potentially affected by this ICR include the following North American Industrial Classification System (NAICS) codes associated with industries most likely affected by the paperwork requirements:

• 325180 Other Basic Inorganic Chemical Manufacturing;

• 325199 All Other Basic Organic Chemical Manufacturing (Primary);

• 325320 Pesticide and Other Agricultural Chemical Manufacturing;

• 325510 Paint and Coating Manufacturing;

• 325520 Adhesive Manufacturing;

• 3256 Soap, Cleaning Compound, and Toilet Preparation Manufacturing;

• 325611 Soap and Other Detergent Manufacturing;

• 325612 Polish and Other Sanitation Good Manufacturing;

• 325613 Surface Active Agent Manufacturing (Primary);

• 325620 Toilet Preparation Manufacturing;

• 325910 Printing Ink Manufacturing;

• 325992 Photographic Film, Paper, Plate, and Chemical Manufacturing;

• 325998 All Other Miscellaneous Chemical Product and Preparation Manufacturing;

• 423850 Service Establishment Equipment and Supplies Merchant Wholesalers (Primary);

• 424490 Other Grocery and Related Products Merchant Wholesalers;

• 424690 Other Chemical and Allied Products Merchant Wholesalers (Primary);

• 424990 Other Miscellaneous Nondurable Goods Merchant Wholesalers;

• 4451 Grocery Stores;

• 445110 Supermarkets and Other Grocery (except Convenience) Stores (Primary);

• 445299 All Other Specialty Food Stores;

• 446110 Pharmacies and Drug Stores;

• 453210 Office Supplies and Stationery Stores;

• 453998 All Other Miscellaneous Store Retailers (except Tobacco Stores) (Primary);

• 454110 Electronic Shopping and Mail-Order Houses;

• 481 Air Transportation;

• 531120 Lessors of Nonresidential Buildings (except Mini-warehouses);

• 531312 Nonresidential Property Managers;

• 541714 Research and Development in Biotechnology (except Nanobiotechnology) (Primary);

• 561210 Facilities Support Services;

• 561720 Janitorial Services;

• 561740 Carpet and Upholstery Cleaning Services;

• 611110 Elementary and Secondary Schools;

• 611310 Colleges, Universities, and Professional Schools;

• 622110 General Medical and Surgical Hospitals;

• 711310 Promoters of Performing Arts, Sports, and Similar Events with Facilities;

• 7211 Traveler Accommodation;

• 722511 Full-Service Restaurants;

• 8123 Dry cleaning and Laundry Services;

• 813410 Civic and Social Organizations (Primary);

• 813910 Business Associations (Primary);

• 921190 Other General Government Support; and

• 924110 Administration of Air and Water Resource and Solid Waste Management Programs (Primary).

Estimated total number of potential respondents: 7,566.

Frequency of response: On occasion.

Estimated total average number of responses for each respondent: 1.

Estimated total annual burden hours: 2,892 hours.

Estimated total annual costs: $736,302. This includes an estimated burden cost of $190,702 and an estimated cost of $545,600 for non-burden hour paperwork costs, e.g., capital investment or maintenance and operational costs.

V. Are there changes in the estimates from the last approvals?

The consolidation of the currently approved ICRs is expected to result in an overall increase of 1,558 hours in the total estimated combined respondent burden that is currently approved by OMB. This information collection combines the burdens from two previously approved ICRs, EPA ICR No. 2302.03 and EPA ICR No. 2487.02. The difference between the current burden request and the previously approved requests is primarily due to the inclusion of Partner of the Year Awards collection activities when calculating the burden of this ICR. Additionally, minor adjustments were made in EPA's estimates of the number of respondents and of the burden.

The total combined cost burden from these two previously approved ICRs was $2,045,616. The total cost burden requested for this ICR is $2,208,906. The difference between the current cost burden request and the previously approved requests are due to the inclusion of Partner of the Year Awards collection activities when calculating the burden, as well as adjustments in EPA's estimates of the number of respondents and of the burden. In addition to the adjustments listed above, the wage rates and material costs were revised to reflect 2020 dollars for this information collection request.

In addition, OMB has requested that EPA move towards using the 18-question format for ICR Supporting Statements used by other federal agencies and departments and is based on the submission instructions established by OMB in 1995, replacing the alternate format developed by EPA and OMB prior to 1995. The Agency does not expect the change in format to result in substantive changes to the information collection activities or related estimated burden and costs.

VI. What is the next step in the process for this ICR?

EPA will consider the comments received and amend the consolidated ICR as appropriate. The final ICR package will then be submitted to OMB for review and approval pursuant to 5 CFR 1320.12. EPA will issue another Federal Register document pursuant to 5 CFR 1320.5(a)(1)(iv) to announce the submission of the ICR to OMB and the opportunity for the public to submit additional comments for OMB consideration.

If you have any questions about this ICR or the approval process, please contact the technical person listed under FOR FURTHER INFORMATION CONTACT.

Authority: 44 U.S.C. 3501 et seq.

Dated: June 22, 2021.
Michal Freedhoff,
Assistant Administrator, Office of Chemical Safety and Pollution Prevention.

[FR Doc. 2021-13683 Filed 6-25-21; 8:45 am]

BILLING CODE 6560-50-P